DEPARTMENT OF LABOR

Employment and Training Administration

Solicitation for Grant Applications (SGA); Workforce Investment Act—Small Grassroots Organizations Connecting With the One-Stop Delivery System

AGENCY: Employment and Training Administration (ETA), Labor.

ACTION: Notice; correction.

SUMMARY: The Employment and Training Administration published a document in the Federal Register on March 25, 2005, concerning the availability of grant funds for eligible “grassroots” organizations with the ability to connect to the local One-Stop Delivery System. This correction is to provide additional clarification on eligibility information.

FOR FURTHER INFORMATION CONTACT: Marsha Daniels, Grants Management Specialist, Division of Federal Assistance, (202) 693-3504.

Corrections

In the Federal Register of March 25, 2005, in FR Volume 70, Number 57:

—On page 15354, in the third column, III Eligibility Information, 1. Eligible Applicants is hereby edited to include the following:

• Current or past grantees eligibility—Those grassroots grantees who were awarded grants as a result of the 2004 DOL solicitation are not eligible to apply. However, previous grassroots grantees are eligible.

• Affiliate of a national organization—An applicant may be an affiliate of a national organization, although to be eligible, an applicant must demonstrate that it meets the eligibility requirements in this SGA. Also please keep in mind the intent of this solicitation is to broaden the participation of small organizations in the nation's workforce development system.

The following Web site will provide responses to frequently asked questions that are raised by applicants during the period of grant application preparation: http://www.doleta.gov/usworkforce/.

Signed in Washington, DC, this 6th day of April, 2005.
Eric D. Luetkenhaus,
Grant Officer.

[FR Doc. E5-1661 Filed 4-8-05; 8:45 am]

BILLING CODE 4510-30-P